DEPARTMENT OF THE INTERIOR

Bureau of Reclamation

Agency Information Collection; Proposed Revisions to a Currently Approved Information Collection; Comment Request

AGENCY: Bureau of Reclamation, Interior.

ACTION: Notice of renewal of a currently approved collection (OMB No. 1006-0003).

SUMMARY: In accordance with the Paperwork Reduction Act of 1995, the Bureau of Reclamation (Reclamation, we) intends to submit a request for renewal (with revisions) of an existing approved information collection to the Office of Management and Budget (OMB): Right-of-Use Application (Form 7-2540), OMB Control Number: 1006-0003. Title 43 CFR part 429 requires that applicants for certain uses of Bureau of Reclamation land apply using Form 7-2540. We request your comments on specific aspects of the revised Right-of-Use Application Form.

DATES: We must receive your written comments on or before December 1, 2008.

ADDRESSES: You may send written comments to the Bureau of Reclamation, Attention: 84-53000, PO Box 25007, Denver, CO 80225-0007. You may request copies of the proposed revised application form by writing to the above address or by contacting Greek Taylor at (303) 445-2895.

FOR FURTHER INFORMATION CONTACT: Greek Taylor at: (303) 445-2895.

SUPPLEMENTARY INFORMATION:

I. Abstract

Reclamation is responsible for approximately 8 million acres of land which directly support Reclamation's Federal water projects in the 17 western states. Individuals or entities wanting to use Reclamation's lands, facilities, or waterbodies must submit an application to gain permission for such uses. Examples of such uses are:

—Agricultural uses such as grazing and farming;

—commercial or organized recreation and sporting activities;

—other commercial activities such as “guiding and outfitting” and “filming and photography;” and

—resource exploration and extraction, including sand and gravel removal and timber harvesting.

Reclamation reviews applications to determine whether granting individual use authorizations is compatible with Reclamation's present or future uses of the lands, facilities, or waterbodies. When we find a proposed use compatible, we advise the applicant of the estimated administrative costs and estimated application processing time. In addition to the administrative costs, we require the applicant to pay the value of the use authorization based on an appraisal or competitive bidding. If the application is for construction of a bridge, building, or other significant construction project, Reclamation may require that all plans and specifications be signed and sealed by a professional engineer licensed by the State in which the work is proposed.

II. Changes to the Right of Use Application Form and Its Instructions

We changed the form and its instructions to comply with proposed revisions to 43 CFR part 429. The name of the form is now “Use Authorization Application” and “right-of-use” is replaced with “use authorization” in the form and instructions. We expanded the examples in the instructions of proposed uses for which you may seek permission. The instructions reflect the reduction of the application fee from $200 to $100. We made other changes to the form and the instructions to improve the readability and information-gathering. For instance, the form now requests day and evening phone numbers, instead of work and home numbers.

III. Data

OMB Control Number: 1006-0003.

Title: Right-of-Use Application.

Form Number: Form 7-2540.

Frequency: Each time a right-of-use is requested.

Respondents: Individuals, corporations, companies, and State and local entities who want to use Reclamation lands, facilities, or waterbodies.

Estimated Annual Total Number of Respondents: 500.

Estimated Number of Responses per Respondent: 1.

Estimated Total Number of Annual Responses: 500.

Estimated Total Annual Burden on Respondents: 1,000 hours.

Estimated Completion Time Per Respondent: 2 hours.

IV. Request for Comments

We invite your comments on:

(a) Whether the proposed collection of information is necessary for the proper performance of our functions, including whether the information will have practical use;

(b) the accuracy of our burden estimate for the proposed collection of information;

(c) ways to enhance the quality, usefulness, and clarity of the information to be collected; and

(d) ways to minimize the burden of the information collection on respondents, including the use of automated collection techniques or other forms of information technology.

We will summarize all comments received regarding this notice. We will publish that summary in the Federal Register when the information collection request is submitted to OMB for review and approval.

Before including your address, telephone number, e-mail address, or other personal identifying information in your comment, you should be aware that your entire comment (including your personal identifying information) may be made publicly available at any time. While you can ask us in your comment to withhold your personal identifying information from public review, we cannot guarantee that we will be able to do so.

Dated: September 17, 2008.
Roseann Gonzales,
Policy and Program Services, Denver Office.

[FR Doc. E8-22916 Filed 9-29-08; 8:45 am]

BILLING CODE 4310-MN-P